NUCLEAR REGULATORY COMMISSION

[Docket Nos. 50-334 and 50-412]

FirstEnergy Nuclear Operating Company, Firstenergy Nuclear Generation Corp.; Ohio Edison Company; The Toledo Edison Company; Beaver Valley Power Station, Unit Nos. 1 and 2; Environmental Assessment and Finding of No Significant Impact

The U.S. Nuclear Regulatory Commission (NRC) is considering issuance of an amendment to Facility Operating License Nos. DPR-66 and NPF-73, issued to the FirstEnergy Nuclear Operating Company (the licensee) for operation of the Beaver Valley Power Station, Unit Nos. 1 and 2 (BVPS-1 and 2), located in Beaver County, Pennsylvania. Pursuant to Title 10 of the Code of Federal Regulations (10 CFR) Sections 51.21 and 51.32, the NRC is issuing this environmental assessment and finding of no significant impact.

Environmental Assessment

Identification of the Proposed Action

The proposed action would be a conversion from the current Technical Specifications (CTSs) to the Improved Technical Specifications (ITSs) format based on NUREG-1431, “Standard Technical Specifications—Westinghouse Plants,” Revision 2. The proposed action is in accordance with the licensee's application dated February 25, 2005, as supplemented by letters dated November 11, 2005, April 19, September 9, October 24, and December 7, 2006.

The Need for the Proposed Action

The Commission's “Proposed Policy Statement on Technical Specifications Improvements for Nuclear Power Reactors” (52 FR 3788), dated February 6, 1987, contained an Interim Policy Statement that set forth objective criteria for determining which regulatory requirements and operating restrictions should be included in the Technical Specifications (TSs) for nuclear power plants. When it issued the Interim Policy Statement, the Commission also requested comments on it. Subsequently, to implement the Interim Policy Statement, each reactor vendor owners group and the NRC staff began developing standard TSs (STSs) for reactors supplied by each vendor. The Commission then published its “Final Policy Statement on Technical Specifications Improvements for Nuclear Power Reactors” (58 FR 39132), dated July 22, 1993, in which it addressed comments received on the Interim Policy Statement, and incorporated experience in developing the STSs. The Final Policy Statement formed the basis for a revision to 10 CFR 50.36 (60 FR 36953), dated July 19, 1995, that codified the criteria for determining the content of TSs. The NRC Committee to Review Generic Requirements reviewed the STSs, made note of their safety merits, and indicated its support of conversion by operating plants to the STSs. For BVPS-1 and 2, NUREG-1431 documents the STSs and forms the basis for the BVPS-1 and 2 conversion to the ITSs.

The proposed changes to the CTSs are based on NUREG-1431 and the guidance provided in the Final Policy Statement. The objective of this action is to rewrite, reformat, and streamline the CTSs (i.e., to convert the CTSs to the ITSs). Emphasis was placed on human factors principles to improve clarity and understanding.

Some specifications in the CTSs would be relocated. Such relocated specifications would include those requirements which do not meet the 10 CFR 50.36 selection criteria. These requirements may be relocated to the TS Bases document, the BVPS-1 and 2 Updated Final Safety Analysis Report, the Core Operating Limits Report, the operational quality assurance plan, plant procedures, or other licensee-controlled documents. Relocating requirements to licensee-controlled documents does not eliminate them, but rather places them under more appropriate regulatory controls (i.e., 10 CFR 50.54(a)(3), and 10 CFR 50.59) to manage their implementation and future changes.

Environmental Impacts of the Proposed Action

The NRC staff has completed its evaluation of the proposed action and concludes that the conversion to ITSs would not increase the probability or consequences of accidents previously analyzed and would not affect facility radiation levels or facility radiological effluents. The proposed action will not increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites because no previously undisturbed area will be affected by the proposed amendment. The proposed action does not affect non-radiological plant effluents and has no other effect on the environment. Therefore, there are no significant non-radiological environmental impacts associated with the proposed action.

Accordingly, the NRC staff concludes that there are no significant environmental impacts associated with the proposed action and, thus, the proposed action will not have any significant impact to the human environment.

Environmental Impacts of the Alternatives to the Proposed Action

As an alternative to the proposed action, the NRC staff considered denial of the proposed action (i.e., the “no-action” alternative). Denial of the application would result in no change in current environmental impacts. Thus, the environmental impacts of the proposed action and the alternative action are similar.

Alternative Use of Resources

The action does not involve the use of any different resources than those previously considered in the Final Environmental Statement for BVPS-1 and 2 dated July 1973 and September 1985, respectively.

Agencies and Persons Consulted

In accordance with its stated policy, on January 23, 2007, the NRC staff consulted with the Pennsylvania State official, Lawrence Ryan, of the Pennsylvania Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated June 29, 2005, as supplemented by letters dated February 25, 2005, as supplemented by letters dated November 11, 2005, April 19, September 9, October 24, and December 7, 2006, and the information provided to the NRC staff through the joint NRC/BVPS ITS Conversion web page. Documents may be examined, and/or copied for a fee, at the NRC's Public Document Room (PDR), located at One White Flint North, Public File Area 01F21, 11555 Rockville Pike (first floor), Rockville, Maryland. Publicly available records will be accessible electronically from the Agencywide Documents Access and Management System (ADAMS) Public Electronic Reading Room on the internet at the NRC Web site, http://www.nrc.gov/reading-rm/adams/adams.html. Persons who do not have access to ADAMS or who encounter problems in accessing the documents located in ADAMS, should contact the NRC PDR Reference staff by telephone at 1-800-397-4209 or 301-415-4737, or by e-mail to pdr@nrc.gov.

Dated at Rockville, Maryland, this 25th day of January 2007.
For The Nuclear Regulatory Commission.
Nadiyah S. Morgan,
Project Manager, Plant Licensing Branch I-1, Division of Operating Reactor Licensing, Office of Nuclear Reactor Regulation.

[FR Doc. E7-2373 Filed 2-9-07; 8:45 am]

BILLING CODE 7590-01-P